DEPARTMENT OF COMMERCE

Bureau of the Census

[Docket Number 150721631-5631-01]

2017 Economic Census

AGENCY: Bureau of the Census, Commerce.

ACTION: Notice of Determination and Request for Comment.

SUMMARY: The Bureau of the Census (U.S. Census Bureau) publishes this notice to announce that it is planning to conduct the 2017 Economic Census. The Census Bureau also is requesting public comment on the 2017 Economic Census content. This collection will be fully electronic using a secure encrypted Internet data collection system called Centurion. The Economic Census is conducted at 5-year intervals (years ending in 2 and 7) and is the most comprehensive compilation of statistics about U.S. businesses and the economy. The granting of specific authority to conduct the program is Title 13, United States Code (U.S.C.), Section 131, which authorizes and requires the Economic Census.

DATES: The Census Bureau will begin the electronic mailout for the 2017 Economic Census in the Fall of 2017, and responses will be due by February 12, 2018. Written comments must be submitted on or before October 5, 2015 to ensure consideration of your comments on the 2017 Economic Census content.

ADDRESSES: Direct all written comments regarding the 2017 Economic Census to Kevin Deardorff, Chief, Economy Wide Statistics Division, U.S. Census Bureau, Room 8K154, Washington, DC 20233; or Email [ec.frn17@census.gov].

FOR FURTHER INFORMATION CONTACT: Economy-Wide Statistics Division, U.S. Census Bureau, 4600 Silver Hill Road, Room 6K141, Washington, DC 20233-6700, by phone (800) 242-2184, or by email ec.frn17@census.gov>.

SUPPLEMENTARY INFORMATION:

A. Background

Section 131 of Title 13 U.S.C. directs the Secretary [of Commerce] to “. . . take, compile, and publish censuses of manufactures, of mineral industries, and of other businesses, including the distributive trades, service establishments, and transportation (exclusive of means of transportation for which statistics are required by law to be filed with, and are compiled and published by, a designated regulatory body), in the year 1964, then in the year 1968, and every fifth year thereafter, and each such census shall relate to the year immediately preceding the taking thereof.”

This notice announces that the Census Bureau is preparing to conduct the 2017 Economic Census. The Economic Census is the U.S. Government's official 5-year measure of American Business and the economy, and has been taken periodically since 1810. The Economic Census is the most comprehensive source of information about American businesses from the national to the local level. These Economic Census data products provide uniquely detailed basic measures that are summarized by North American Industry Classification System (NAICS) industry for the U.S., states, metropolitan areas, counties, economic places, and ZIP Code areas. Data include details on the product composition of industry sales, receipts, revenue, or shipments; and on a great variety of industry-specific subjects. Additionally, the Economic Census produces statistics about businesses in Puerto Rico, American Samoa, the Commonwealth of the Northern Mariana Islands, Guam, and the U.S. Virgin Islands, and it provides data on selected special-interest topics, including the characteristics of business owners, domestic freight shipments, and business expenses. Published data cover close to 1,000 industries, 8,000 goods and services, every state, the District of Columbia, over 3,000 counties and 15,000 cities and towns.

The Economic Census is a primary source of facts about the structure and functioning of the U.S. economy. Economic Census statistics are more complete, specific, and reliable than any other single set of economic information. It provides comprehensive, detailed, high quality, and authoritative statistics that meet the needs of government, businesses, policymakers, academic researchers, and the American public. The program's data products inform policies and programs that promote business vitality, job creation, and sustainable growth. Moreover, they provide the official measures of output for industries and geographic areas and serve much of the foundation for the National Income and Product Accounts, Gross Domestic Product estimates, and other composite measures of the Nation's economic performance. These data supply weights and benchmarks for indexes of industrial production, productivity, and prices; and provide benchmarks for other Federal statistical series. Some of these statistical series include current business surveys done by the Census Bureau, which are used by trade associations, business organizations, economic development agencies, and individual businesses to assess and improve business performance.

B. Electronic Collection

The 2017 Economic Census will be the first to be conducted completely by electronic collection (100 percent Internet Collection). The electronic instrument, Centurion, provides improved quality with automatic data checks and is context-sensitive to assist the data provider in identifying potential reporting problems before submission, thus reducing the need for follow-up. Centurion is Internet-based, eliminating the need for downloading software and increasing the integrity and confidentiality of the data. The Census Bureau will furnish usernames and passwords for the electronic instrument to the organizations included in the survey, and an image of the electronic instrument will be available on the 2017 Economic Census Web site once the census has launched.

C. Economic Census Content

The Census Bureau posted copies of the 2012 Economic Census forms on its Web site at: https://bhs.econ.census.gov/ec12/php/census-form.php. Please take a moment to review the forms relevant to your interests and provide us with your comments for us to consider as we prepare content for the 2017 questionnaires. In particular, Item 26 “Special Inquiries” may be of the most interest to you. The Special Inquiries item is dedicated to variable questions of particular interest to the industries to which the questionnaire is directed. While general questions are asked of all establishments, these variable questions allow special data to be collected, which measure important changes in our economy and support the needs of individual industries. We are particularly interested in comments on the usefulness of existing inquiries for continued inclusion and in suggestions for new measures that would be appropriate to include in the Economic Census.

Notwithstanding any other provision of law, no person is required to respond to, nor shall a person be subject to a penalty for failure to comply with a collection of information subject to the requirements of the Paperwork Reduction Act (PRA) unless that collection of information displays a current valid Office of Management and Budget (OMB) control number. The Census Bureau, through the proper established procedures, will be obtaining an OMB control number under the PRA as we get closer to launching the program in 2017.

I have, therefore, directed that the 2017 Economic Census be conducted for the purpose of collecting these data.

Dated: July 30, 2015.
John H. Thompson,
Director, Bureau of the Census.

[FR Doc. 2015-19147 Filed 8-3-15; 8:45 am]

BILLING CODE 3510-07-P